DEPARTMENT OF COMMERCE

International Trade Administration

(A-489-501)

Notice of Preliminary Results of Antidumping Duty Administrative Review: Certain Welded Carbon Steel Pipe and Tube from Turkey

AGENCY: Import Administration, International Trade Administration, U.S. Department of Commerce.

SUMMARY: In response to a request by domestic interested parties, Allied Tube and Conduit Corporation (“Allied Tube”) and Wheatland Tube Company (“Wheatland”), the Department of Commerce (“the Department”) is conducting an administrative review of the antidumping duty order on certain welded carbon steel pipe and tube (“welded pipe and tube”) from Turkey. This review covers the following two producers/exporters of the subject merchandise: (1) the Yücel Group (“Yücel”), which includes Çayirova Boru Sanayi ve Ticaret A.S. (“Çayirova”) and its affiliate, Yücel Boru Ithalat-Ihracat ve Pazarlama A.S. and (2) the Borusan Group (“Borusan”). We preliminarily determine that both Yücel and Borusan made sales below normal value (“NV”). If these preliminary results are adopted in our final results, we will instruct U.S. Customs and Border Protection (“CBP”) to assess antidumping duties based on the difference between the export price (“EP”) and the NV.

EFFECTIVE DATE: June 7, 2005.

FOR FURTHER INFORMATION CONTACT: Christopher Hargett, George McMahon, or Martin Claessens, at (202) 482-4161, (202) 482-1167, or (202) 482-5451, respectively; AD/CVD Operations, Office 3, Import Administration, International Trade Administration, U.S. Department of Commerce, 14th Street and Constitution Avenue, NW, Washington, DC 20230.

SUPPLEMENTARY INFORMATION:

Background

On May 15, 1986, the Department published in the Federal Register the antidumping duty order on welded pipe and tube from Turkey. See 51 FR 17784 (May 15, 1986). On May 3, 2004, the Department published a notice of opportunity to request an administrative review of this order. See Antidumping or Countervailing Duty Order, Finding, or Suspended Investigation; Opportunity to Request Administrative Review, 69 FR 24117 (May 3, 2004). On May 28, 2004, in accordance with 19 CFR 351.213(b), domestic interested parties Allied Tube and Wheatland requested a review of Yücel and Borusan.

On June 30, 2004, the Department published a notice of initiation of administrative review of the antidumping duty order on welded pipe and tube from Turkey, covering the period May 1, 2003, through April 30, 2004. See Initiation of Antidumping and Countervailing Duty Administrative Reviews and Request for Revocation in Part, 69 FR 39409 (June 30, 2004). On November 1, 2004, the Department extended the deadline for the preliminary results until no later than May 31, 2005. See Certain Welded Carbon Steel Pipe and Tube from Turkey: Extension of Time Limit for Preliminary Results of Antidumping Duty Administrative Review, 69 FR 63366 (November 1, 2004).

On August 4, 2004, the Department sent an antidumping duty administrative review questionnaire to Yücel.¹ In the cover letter, the Department erred in asking Yücel to respond to section D of the questionnaire. In its questionnaire response, Yücel reported section D data. Subsequently, on January 6, 2005, a Department official spoke with counsel for Yücel about the error, and counsel for Yücel decided to leave the section D information on the record. Counsel for Yücel stated that he was amenable to leaving the cost data on the record without prejudice to Yücel's rights vis-à-vis the requirement of a cost allegation. See Memorandum to The File dated January 6, 2005.

¹ The questionnaire consists of sections A (general information), B (sales in the home market or to third countries), C (sales to the United States), D (cost of production/constructed value), and E (cost of further manufacturing or assembly performed in the United States).

We conducted a sales verification of Yücel's questionnaire responses from April 4 through April 8, 2005.

Scope of the Order

The products covered by this order include circular welded non-alloy steel pipes and tubes, of circular cross-section, not more than 406.4 millimeters (16 inches) in outside diameter, regardless of wall thickness, surface finish (black, or galvanized, painted), or end finish (plain end, beveled end, threaded and coupled). Those pipes and tubes are generally known as standard pipe, though they may also be called structural or mechanical tubing in certain applications. Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells.

The scope is not limited to standard pipe and fence tubing, or those types of mechanical and structural pipe that are used in standard pipe applications. All carbon steel pipes and tubes within the physical description outlined above are included in the scope of this order, except for line pipe, oil country tubular goods, boiler tubing, cold-drawn or cold-rolled mechanical tubing, pipe and tube hollows for redraws, finished scaffolding, and finished rigid conduit.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.

Verification

As provided in section 782(i)(3) of the Tariff Act of 1930, as amended (“the Act”), we verified the information provided by Yücel. We used standard verification procedures, including an examination of the relevant sales and financial records. Our verification results are detailed in the company-specific verification report placed in the case file in the Central Records Unit (“CRU”), room B-099 of the main Department building. We made minor revisions to certain sales and cost data based on verification findings with the exception of warranties, discussed below. See the Yücel Verification Report, May 25, 2005, and Calculation Memorandum, May 31, 2005, in the CRU.

Product Comparisons

We compared the EP to the NV, as described in the Export Price and Normal Value sections of this notice. In accordance with section 771(16) of the Act, we first attempted to match contemporaneous sales of products sold in the United States and comparison market that were identical with respect to the following characteristics: (1) grade; (2) nominal pipe size; (3) wall thickness; (4) surface finish; (5) end finish. When there were no sales of identical merchandise in the home market to compare with U.S. sales, we compared U.S. sales with the most similar merchandise based on the characteristics listed above in order of priority listed.

Export Price

Because both Yücel and Borusan sold subject merchandise directly to the first unaffiliated purchaser in the United States prior to importation, and constructed export price methodology was not otherwise warranted based on the record facts of this review, in accordance with section 772(a) of the Act, we used EP as the basis for all of Yücel's and Borusan's sales.

We calculated EP using, as starting price, the packed, delivered price to unaffiliated purchasers in the United States. In accordance with section 772(c)(2)(A) of the Act, we made the following deductions from the starting price (gross unit price), where appropriate: foreign inland freight from the mill to warehouse to port, foreign brokerage and handling, international freight, marine insurance, and other related charges. In addition, we added duty drawback to the starting price, having found preliminarily that such an adjustment was warranted under the standard two-prong test. See Allied Tube and Conduit Corp. v. United States, Slip Op. 05-56 (May 12, 2005).

Normal Value

A. Selection of Comparison Market

In order to determine whether there was a sufficient volume of sales in the home market to serve as a viable basis for calculating NV, we compared both Yücel's and Borusan's volume of home-market sales of the foreign like product to their respective volume of U.S. sales of the subject merchandise, in accordance with section 773(a)(1)(C) of the Act. Because both Yücel's and Borusan's aggregate volume of home-market sales of the foreign like product were greater than five percent of their respective company's aggregate volume of U.S. sales of the subject merchandise, we determined that each home market was viable. We calculated NV as noted in the “Calculation of NV Based on Comparison Market Prices” and “Calculation of NV Based on Constructed Value” sections of this notice.

B. Cost of Production (“COP”) Analysis

Because the Department disregarded sales below the COP in the last completed review of Borusan, we have reasonable grounds to believe or suspect that sales of the foreign like product under consideration for the determination of NV in this review may have been made at prices below the COP as provided by section 773(b)(2)(A)(ii) of the Act. Therefore, pursuant to section 773(b)(1) of the Act, we initiated a COP investigation of sales by Borusan in the home market. See Notice of Final Results of Antidumping Duty Administrative Review: Certain Welded Carbon Steel Pipe and Tube From Turkey, 65 FR 48843 (August 11, 2004) (“Final Results, Turkey”).

1. Calculation of COP

In accordance with section 773(b)(3) of the Act, we calculated the COP based on the sum of Borusan's costs of materials and fabrication employed in producing the foreign like product, plus selling, general, and administrative expenses (“SG&A”) and the cost of all expenses incidental to packing and preparing the foreign like product for shipment.

2. Test of Comparison Market Sales Prices

We compared the weighted-average COP figures to home-market sales of the foreign like product as required by section 773(b) of the Act, in order to determine whether these sales had been made at prices below the COP. On a product-specific basis, we compared the COP to the home-market prices, less any applicable movement charges, rebates, discounts, packing, and direct selling expenses.

3. Results of the COP Test

Pursuant to section 773(b)(2)(C)(i) of the Act, where less than 20 percent of the respondent's sales of a given product were at prices less than the COP, we do not disregard any below-cost sales of that product because we determine that the below-cost sales were not made in “substantial quantities.” We found that, for certain products, more than 20 percent of Borusan's home-market sales were sold at prices below the COP. Further, we found that the prices for these sales did not permit the recovery of all costs within a reasonable period of time. We therefore excluded these sales from our analysis and used the remaining sales as the basis for determining NV, in accordance with section 773(b)(1) of the Act.

C. Calculation of NV Based on Comparison Market Prices

For Borusan, for those comparison products for which there were sales at prices above the COP, we based NV on home-market prices. No allegation was submitted that Yücel made sales below the COP; and therefore, we did not conduct a sales-below-cost test on Yücel's sales. In these preliminary results, for Borusan, we were able to match all U.S. sales to contemporaneous sales, made in the ordinary course of trade, of either an identical or a similar foreign like product, based on matching characteristics. For Yücel, we based NV on home-market prices. For U.S. sales that we could not appropriately match to contemporaneous home-market sales, we used constructed value. For both Borusan and Yücel, we calculated NV based on free on board (“FOB”) mill/warehouse or delivered prices to unaffiliated customers, or prices to affiliated customers which were determined to be at arm's length (see discussion below regarding these sales). We made deductions, where appropriate, from the starting price for discounts, rebates, inland freight, and pre-sale warehouse expense. Additionally, we added billing adjustments and interest revenue. In accordance with section 773(a)(6) of the Act, we deducted home-market packing costs and added U.S. packing costs.

In accordance with section 773(a)(6)(C)(iii) of the Act, we adjusted for differences in the circumstances of sale (“COS”). These circumstances included differences in imputed credit expenses and other direct selling expenses. We also made adjustments, where appropriate, for physical differences in the merchandise in accordance with section 773(a)(6)(C)(ii) of the Act and for differences in the level of trade (see discussion below regarding level of trade). Calculation of NV Based on Constructed Value (“CV”)

For Yücel, when we could not determine the NV based on comparison market sales because there were no contemporaneous sales of a comparable product, we compared the EP to CV. In accordance with section 773(e) of the Act, we calculated CV based on the sum of the cost of manufacturing (“COM”) of the product sold in the United States, plus amounts for SG&A expenses, profit, and U.S. packing costs. In accordance with section 773(e)(2)(A) of the Act, we based SG&A expenses and profit on the amounts incurred by Yücel in connection with the production and sale of the foreign like product in the comparison market.

For price-to-CV comparisons, we made adjustments to CV for COS differences, in accordance with section 773(a)(8) of the Act and 19 CFR 351.410. We made COS adjustments by deducting direct selling expenses incurred on comparison market sales and adding U.S. direct selling expenses.

Adverse Facts Available

In accordance with section 776(a)(2) of the Act, the Department has determined that the use of facts available is appropriate for the treatment of warranty expenses for purposes of determining the preliminary results for the subject merchandise sold by Yücel. Section 776(a)(2) of the Act provides: If an interested party (A) withholds information that has been requested by the administrating authority; (B) fails to provide such information by the deadlines for the submission of the information or in the form and the manner requested, subject to subsections (c)(1) and (e) of section 782; (C) significantly impedes a proceeding under this title; or (D) provides such information but the information cannot be verified as provided in section 782(i), the administering authority shall, subject to section 782(d), use the facts otherwise available in reaching the applicable determination under this title. Moreover, section 776(b) of the Act provides that: If the administering authority finds that an interested party has failed to cooperate by not acting to the best of its ability to comply with a request for information from the administering authority, the administering authority, in reaching the applicable determination under this title, may use an inference that is adverse to the interests of the party in selecting from among the facts otherwise available.

Yücel failed to report warranty expenses properly in the home market and did not provide such information by the deadlines for the submission of the information or in the form and the manner requested. The Department gave Yücel several opportunities to report warranty expenses properly in the WARRH data field. Specifically, the Department issued Yücel two supplemental questionnaires in addition to the initial sections A-C of the questionnaire. Despite these opportunities, the Department discovered at verification that Yücel failed to report warranties to certain customers in its original submissions. In addition, the Department found that the original data reported by Yücel included warranties for customers that were not identified in the database (i.e., customers to whom Yücel did not sell subject merchandise in the home market during the POR). Yücel had the opportunity and ability to report warranty expenses properly; however, it failed to do so in the initial questionnaire response and subsequent supplemental questionnaire responses.

Although Yücel presented the correction to home-market warranty expenses at the onset of verification, the Department did not verify this information. In accordance with Department practice, Yücel's verification outline clearly states the following: “{p}lease note that verification is not intended to be an opportunity for submitting new factual information. New information will be accepted at verification only when (1) the need for that information was not evident previously, (2) the information makes minor corrections to information already on the record, or (3) the information corroborates, supports, or clarifies information already on the record.” See Yücel's Verification Outline, dated March 25, 2005, at page 2.

Based on the fact that Yücel repeatedly reported incorrectly its warranty expense data until the beginning of verification, the Department is rejecting Yücel's belated correct reporting of warranty expenses. See Yücel's Verification Report, dated May 31, 2005, in the CRU.

As stated by the U.S. Court of Appeals for the Federal Circuit (“CAFC”), “if a respondent 'fails to provide {requested} information by the deadlines for submission,' Commerce shall fill in the gaps with 'facts otherwise available.' The focus of subsection (a) is respondent's failure to provide information. The reason for the failure is of no moment. As a separate matter, subsection (b) permits Commerce to 'use an inference that is adverse to the interests of {a respondent} in selecting from among the facts otherwise available,' only if Commerce makes the separate determination that the respondent 'has failed to cooperate by not acting to the best of its ability to comply.' The focus of subsection (b) is respondent's failure to cooperate to the best of its ability, not its failure to provide requested information.” See Nippon Steel Corporation vs. United States, 37 F. 3d 1373 (August 8, 2003) (“Nippon Steel”).

In Nippon Steel, the CAFC held that “the statutory mandate that a respondent act to the 'best of its ability' requires the respondent to do the maximum it is able to do.” See Nippon Steel, 337 F.3d at 1382.

Yücel's actions fell well below the standard of doing the maximum it was able to do. It failed to properly evaluate and submit the requested information in its initial questionnaire response, and failed twice more despite specific follow-up questioning by the Department. Indeed, Yücel's untimely presentation of requested information regarding warranties at the beginning of verification demonstrated that it would have been able to provide the Department with the information requested, if it had exercised the requisite effort. However, Yücel's failure to do so by the deadlines for submission demonstrates it did not act to the best of its ability.

Therefore, pursuant to section 776(a)(2) of the Act, the Department has determined that the use of facts available is appropriate with respect to Yücel's warranty expenses in the home market. Pursuant to section 776(b)(3) of the Act, we have used an adverse inference by not accepting Yücel's warranty expenses in the home market.

Arm's-Length Sales

We included in our analysis Yücel's and Borusan's home-market sales to affiliated customers only where we determined that such sales were made at arm's-length prices, i.e., at prices comparable to prices at which Yücel and Borusan, respectively, sold identical merchandise to their unaffiliated customers. Each respondent's sales to affiliates constituted less than five percent of overall home-market sales. To test whether the sales to affiliates were made at arm's-length prices, we compared the starting prices of sales to affiliated and unaffiliated customers net of all movement charges, direct selling expenses, discounts, and packing. Where the price to that affiliated party was, on average, within a range of 98 to 102 percent of the price of the same or comparable merchandise sold to the unaffiliated parties, we determined that the sales made to the affiliated party were at arm's length. See Antidumping Proceedings: Affiliated Party Sales in the Ordinary Course of Trade, 67 FR 69186 (November 15, 2002).

Level of Trade

As set forth in section 773(a)(1)(B)(i) of the Act and in the Statement of Administrative Action (“SAA”) accompanying the Uruguay Round Agreements Act, at 829-831 (see H.R. Doc. No. 316, 103d Cong., 2d Sess. 829-831 (1994)), to the extent practicable, the Department calculates NV based on sales at the same level of trade (“LOT”) as U.S. sales, either EP or CEP. When the Department is unable to find sale(s) in the comparison market at the same LOT as the U.S. sale(s), the Department may compare sales in the U.S. and foreign markets at different LOTs. The NV LOT is that of the starting-price sales in the home market. To determine whether home-market sales are at a different LOT than U.S. sales, we examine stages in the marketing process and selling functions along the chain of distribution between the producer and the unaffiliated customer. If the comparison-market sales are at a different LOT and the differences affect price comparability, as manifested in a pattern of consistent price differences between the sales on which NV is based and comparison-market sales at the LOT of the export transaction, we make an LOT adjustment under section 773(a)(7)(A) of the Act.

In implementing these principles, we examined information from each respondent regarding the marketing stages involved in the reported home-market and EP sales, including a description of the selling activities performed by each for each channel of distribution. We determined that with respect to Yücel's sales, there was one home market LOT and one U.S. LOT, and with respect to Borusan's sales, there were two home-market LOTs and one U.S. LOT.

For home-market sales, we found that Yücel sold mill-direct, FOB, without the use of a selling agent. In some cases, Yücel arranged for freight; however, the purchaser took possession of the merchandise upon loading in all cases. No additional services were undertaken by Yücel.

Yücel's U.S. sales were made at only one LOT. Selling functions were limited to maintaining stock until full container loads were produced, and arranging for shipment of the merchandise to the United States. Yücel's U.S. sales were made-to-order, with title passing to the purchaser when the goods passed the ship's rail. No other sales activities were undertaken by Yücel.

Because Yücel's sales functions in each market were nearly identical, we have determined that the LOT in each market is the same and therefore have made no LOT adjustments in comparing its U.S. and home-market sales.

With regard to Borusan, we examined information from the respondent on the marketing stages involved in the reported home-market and EP sales, including a description of the selling activities performed by Borusan for each channel of distribution. Consistent with the prior reviews of this respondent, we determined that with respect to Borusan's sales, there were two home-market LOTs and one U.S. LOT (i.e., the EP LOT). See Final Results, Turkey, 65 FR 48843. For home-market sales, we found that Borusan's back-to-back sales by affiliated resellers and mill-direct sales comprised one LOT. We found that Borusan's inventory sales by affiliated resellers warranted a separate LOT. Back-to-back sales by affiliated resellers are sales by Borusan through an affiliated selling agent. Such sales are very similar to mill-direct sales; however, the affiliated agent arranges for freight. The affiliated agent does not take possession of the merchandise; it is transferred directly from the mill to the final customer. For mill-direct sales, Borusan provided customer advice, product information and technical services, warranty services, and advertising. For back-to-back sales by affiliated resellers, the resellers engage in marketing activities and make freight arrangements, and warranty services are provided by the mill. For inventory sales by affiliated resellers, the resellers have a sales staff that sells Borusan products out of the reseller's warehouse. Those resellers maintain such warehouses, provide product information, and customer advice. Warranty services for these sales were provided by the mill.

The first main difference between Borusan's inventory sales by affiliated resellers and Borusan's mill-direct and back-to-back sales is off-site warehouse maintenance and operation. Borusan's affiliated resellers that sell from inventory operate their own warehouses. Second, for its back-to-back and mill-direct sales, Borusan transfers the title of the merchandise directly and immediately to the first unaffiliated customer, but Borusan cannot perform such a transfer of title in its sales out-of-inventory by affiliated resellers. Last, Borusan provides discounts for both mill-direct and back-to-back sales, but provides only very limited discounts for inventory sales.

Borusan's U.S. sales were made at only one LOT. The selling functions for U.S. sales included customer advice and product information, warranty services, and freight and delivery arrangements. Borusan's sales to the United States were not made out of warehouses. This LOT is most similar to the first LOT in the home market (mill-direct and back-to-back sales).

Where possible, we compared U.S. sales to sales at the identical home-market LOT mill-direct sales and back-to-back affiliated reseller sales. If no match was available at the same LOT, we compared sales at the U.S. LOT to sales at the second home-market LOT.

To determine whether an LOT adjustment was warranted, we examined the prices of comparable product categories, net of all adjustments, between sales at the two home-market LOTs we had designated. We found a pattern of consistent price differences between sales at these LOTs.

In making the LOT adjustment, we calculated the difference in prices between the two home-market LOTs. Where U.S. sales were compared to home-market sales at a different LOT, we adjusted the home-market price by the amount of this calculated difference.

Currency Conversion

The Department's preferred source for daily exchange rates is the Federal Reserve Bank. However, the Federal Reserve Bank does not track or publish exchange rates for the Turkish lira. Therefore, we made currency conversions based on the daily exchange rates from the Dow Jones Business Information Services.

Section 773A(a) directs the Department to use a daily exchange rate in order to convert foreign currencies into U.S. dollars, unless the daily rate involves a “fluctuation.” It is the Department's practice to find that a fluctuation exists when the daily exchange rate differs from a benchmark rate by 2.25 percent. The benchmark rate is defined as the rolling average of the rates for the past 40 business days. When we determine that a fluctuation existed, we generally utilize the benchmark rate instead of the daily rate, in accordance with established practice.

Date of Sale

In the home market, Yücel reported its date of sale based on the invoice date. However, for sales to the United States, Yücel reported its date of sale based on the “order confirmation date,” which Yücel refers to as its “contract date.” Yücel indicated that its “order confirmation” constitutes the acceptance of an offer made by its U.S. customers which was made in the form of a purchase order. See Yücel's supplemental questionnaire response dated February 24, 2005, at pages 24-25. During verification, Yücel reported that it confirms orders via e-mail and that Yücel maintains a file that documents the order confirmations for each of its sales to the United States. At verification, the Department attempted to corroborate this claim by verifying a sample of the order confirmations, which would enable a comparison to the reported shipment sale dates. However, Yücel was unable to produce all the e-mail confirmations requested by the Department and Yücel was unable to substantiate its claim that order confirmation date (“contract date”) was representative of the date on which the material terms of sale were finalized. Therefore, for purposes of the preliminary results, we have used the invoice date reported by Yücel as the basis for Yücel's U.S. date of sale.

Preliminary Results of Review

As a result of this review, we preliminarily determine that the following margins exist for the period May 1, 2003, through April 30, 2004:

Manufacturer/Exporter | Margin (percent)
Yücel | 12.11
Borusan | 0.86

We will disclose the calculations used in our analysis to parties to this proceeding within five days of the publication date of this notice. See section 351.224(b) of the Department's regulations. Interested parties are invited to comment on the preliminary results. Interested parties may submit case briefs within 30 days of the date of publication of this notice. Rebuttal briefs, limited to issues raised in the case briefs, may be filed no later than 37 days after the date of publication of this notice. Parties who submit arguments are requested to submit with each argument: (1) a statement of the issue, (2) a brief summary of the argument, and (3) a table of authorities. Further, parties submitting written comments should provide the Department with an additional copy of the public version of any such comments on a diskette. Any interested party may request a hearing within 30 days of publication of this notice. See section 351.310(c) of the Department's regulations. If requested, a hearing will be held 44 days after the publication of this notice, or the first workday thereafter. The Department will publish a notice of the final results of this administrative review, which will include the results of its analysis of issues raised in any written comments or hearing, within 120 days from publication of this notice.

Assessment

Pursuant to section 351.212(b) of the Department's regulations, the Department calculated an assessment rate for each importer of subject merchandise. Upon completion of this review, the Department will instruct CBP to assess antidumping duties on all entries of subject merchandise by those importers. We have calculated each importer's duty assessment rate based on the ratio of the total amount of antidumping duties calculated for the examined sales to the total calculated entered value of examined sales. Where the assessment rate is above de minimis, the importer-specific rate will be assessed uniformly on all entries made during the POR.

Cash Deposit Requirements

The following cash deposit rates will be effective upon publication of the final results of this administrative review for all shipments of welded pipe and tube from Turkey entered, or withdrawn from warehouse, for consumption on or after the publication date, as provided by section 751(a)(1) of the Act: (1) the cash deposit rates for the companies listed above will be the rates established in the final results of this review, except if the rates are less than 0.5 percent and, therefore, de minimis, the cash deposit will be zero; (2) for previously reviewed or investigated companies not listed above, the cash deposit rate will continue to be the company-specific rate published for the most recent period; (3) if the exporter is not a firm covered in this review, a prior review, or the less-than-fair-value (“LTFV”) investigation, but the manufacturer is, the cash deposit rate will be the rate established for the most recent period for the manufacturer of the merchandise; and (4) if neither the exporter nor the manufacturer is a firm covered in this or any previous review or the LTFV investigation conducted by the Department, the cash deposit rate will be 14.74 percent, the “All Others” rate established in the LTFV investigation. These cash deposit requirements, when imposed, shall remain in effect until publication of the final results of the next administrative review.

This notice serves as a preliminary reminder to importers of their responsibility under section 351.402(f)(2) of the Department's regulations to file a certificate regarding the reimbursement of antidumping duties prior to liquidation of the relevant entries during this review period. Failure to comply with this requirement could result in the Secretary's presumption that reimbursement of antidumping duties occurred and the subsequent assessment of double antidumping duties.

This determination is issued and published in accordance with sections 751(a)(1) and 777(I)(1) of the Act.

Dated: May 27, 2005.
Holly A. Kuga,
Acting Assistant Secretary for Import Administration.

[FR Doc. E5-2887 Filed 6-6-05; 8:45 am]

BILLING CODE 3510-DS-S